DEPARTMENT OF HEALTH AND HUMAN SERVICES

Centers for Disease Control and Prevention

Mine Safety and Health Research Advisory Committee (MSHRAC)

AGENCY: Centers for Disease Control and Prevention (CDC), Department of Health and Human Services (HHS).

ACTION: Notice of meeting.

SUMMARY: In accordance with the Federal Advisory Committee Act, the CDC announces the following meeting for the Mine Safety and Health Research Advisory Committee (MSHRAC). This is a hybrid meeting, accessible both in-person and virtually. It is open to the public in person and limited only by the space available. Time will be available for public comment.

DATES: The meeting will be held on May 17, 2022, from 10:00 a.m. to 4:05 p.m., EDT, and May 18, 2022, from 10:00 a.m. to 4:00 p.m., EDT. The public comment session will be held on May 18, 2022, at 11:55 a.m., EDT and conclude at 12:15 p.m., EDT or following the final call for public comment, whichever comes first.

ADDRESSES: National Institute for Occupational Safety and Health (NIOSH) Pittsburgh Campus, Building 140, Room 140MP, 626 Cochrans Mill Road, Pittsburgh, Pennsylvania 15236.

Please note that the meeting location, the NIOSH Pittsburgh Campus, is a federal facility and in-person access is limited to United States citizens unless prior authorizations, taking up to 30 to 60 days, have been made. If you wish to attend either in person or virtually, please contact Ms. Berni Metzger by email at metzger@cdc.gov or by telephone at (412) 386-4541 at least 5 business days in advance of the meeting. If attending virtually, Ms. Metzger will provide you with the Zoom web conference access information.

Meeting Information: The conference room accommodates approximately 49 people and virtual access is limited by the number of web conference lines (500 web conference lines are available).

FOR FURTHER INFORMATION CONTACT: George W. Luxbacher, P.E., Ph.D., Designated Federal Officer, MSHRAC, NIOSH, CDC, 1600 Clifton Road, Mailstop V24-4, Atlanta, Georgia 30329-4027, Telephone: (404) 498-2808; Email: GLuxbacher@cdc.gov.

SUPPLEMENTARY INFORMATION: Purpose: This committee is charged with providing advice to the Secretary, Department of Health and Human Services; the Director, CDC; and the Director, NIOSH, on priorities in mine safety and health research, including grants and contracts for such research, 30 U.S.C. 812(b)(2), Section 102(b)(2).

Matters To Be Considered: The agenda will include discussions on NIOSH mining safety and health research organizational structure, capabilities, projects, and outcomes. The meeting will also include an update from the NIOSH Associate Director for Mining. Agenda items are subject to change as priorities dictate.

Public Participation

Written Public Comment: The public may submit written comments or questions in advance of the meeting, to the contact person above. Written comments received in advance of the meeting will be included in the official record of the meeting and questions will be answered during the oral public comment period open to public participation.

Oral Public Comment: This meeting will include time for members of the public to make an oral comment. The public comment session will be held on May 18, 2022, at 11:55 a.m., EDT and conclude at 12:15 p.m., EDT or following the final call for public comment, whichever comes first.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2022-08926 Filed 4-26-22; 8:45 am]

BILLING CODE 4163-18-P